INTERNATIONAL TRADE COMMISSION

[Investigation No. 332-477]

Sub-Saharan Africa: Factors Affecting Trade Patterns of Selected Industries—Second Annual Report

AGENCY: United States International Trade Commission.

ACTION: Scheduling of second annual report and public hearing; industry coverage of second report.

SUMMARY: In a letter dated July 26, 2006, the United States Trade Representative (USTR) requested, under section 332(g) of the Tariff Act of 1930 (19 U.S.C. 1332(g)), that the U.S. International Trade Commission (Commission) prepare three annual reports relating to factors that affect trade patterns of selected industries in sub-Saharan African (SSA) countries. In response, the Commission instituted investigation No. 332-477, Sub-Saharan Africa: Factors Affecting Trade Patterns of Selected Industries, and delivered its first report on April 3, 2007. This notice announces the scheduling of the second report in this series, the industries to be covered, and the scheduling of a public hearing.

DATES: October 1, 2007: Deadline for filing requests to appear at the public hearing.

October 3, 2007: Deadline for filing pre-hearing briefs and statements.

October 23, 2007: Public hearing.

November 2, 2007: Deadline for filing post-hearing briefs and statements.

April 3, 2008: Transmittal of Commission report to USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at: http://www.usitc.gov/secretary/edis.htm.

FOR FURTHER INFORMATION CONTACT: Project leader Falan Yinug (202-205-2160 or (falan.yinug@usitc.gov) or deputy project leader James Fetzer (202-708-5403 or (james.fetzer@usitc.gov) for information specific to this investigation (the second report). For information on the legal aspects of this investigation, contact William Gearhart of the Commission's Office of the General Counsel (202-205-3091 or (william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As indicated above, this notice concerns the second of three annual reports that the USTR requested the Commission to provide concerning factors affecting trade patterns of selected industries in SSA countries. In her July 26, 2006, letter, the USTR described the type of information that the Commission should provide in its reports with respect to each industry and identified the industries and products produced to be covered in the first annual report. The USTR indicated that she would provide additional lists of industries and products produced for each of the second and third annual reports. She requested that the Commission deliver its first annual report by April 3, 2007, and its second and third annual reports by April 3, 2008, and April 3, 2009, respectively. The Commission published notice of institution of this investigation in the Federal Register on August 29, 2006 (71 F.R. 51212), and delivered its first report to USTR on April 3, 2007.

On June 19, 2007, the Commission received a memorandum from the Office of the United States Trade Representative listing the industries and products to be covered in the second annual report. In its second annual report the Commission will provide profiles of SSA industries that produce the following products: (1) In the agriculture sector, coffee, certain spices (including ginger), shea butter and downstream products thereof, and tropical fruits (e.g. bananas, pineapples, and guavas) and processed products thereof; (2) in the mining and manufacturing sector, natural rubber and downstream products thereof, footwear, textiles, jewelry and downstream diamond processing (e.g., polishing and cutting), and wood furniture; and (3) in the services sector, aviation services and communications services.

Each industry profile will include the following information, to the extent data are available, for the most recently available 5-year period:

• A description of the leading industries within the SSA that export the subject products, including their position relative to global competitors;

• identification of the leading SSA exporting countries and their key markets; and

• analysis of the competitive factors, by country, that have contributed to the shift in exports. (Such factors may include access to inputs, labor, technology, investment, trade policies, e.g., tariffs and trade preference programs such as AGOA, privatization, and liberalization.)

Public Hearing: A public hearing in connection with this investigation will be held beginning at 9:30 a.m. on October 23, 2007, at the United States International Trade Commission Building, 500 E Street, SW., Washington DC. Requests to appear at the public hearing should be filed with the Secretary, no later than 5:15 p.m. October 1, 2007, in accordance with the requirements in the “Written Submissions” section below. In the event that, as of the close of business on October 1, 2007, no witnesses are scheduled to appear at the hearing, the hearing will be canceled. Any person interested in attending the hearing as an observer or nonparticipant may call the Secretary to the Commission (202-205-2000) after October 1, 2007, for information concerning whether the hearing will be held.

Written Submissions: In lieu of or in addition to participating in the hearing, interested parties are invited to submit written statements or briefs concerning this investigation. All written submissions, including requests to appear at the hearing, statements, and briefs, should be addressed to the Secretary. Any pre-hearing statements or briefs should be filed not later than 5:15 p.m., October 3, 2007; and post-hearing statements and briefs and all other written submissions should be filed not later than 5:15 p.m. November 2, 2007. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, http://www.usitc.gov/secretary/fed_reg_notices/rules/documents/handbook_on_electronic_filing.pdf; persons with questions regarding electronic filing should contact the Office of the Secretary at 202-205-2000.

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties.

In her request letter, the USTR stated that her office intends to make the Commission's reports in this investigation available to the public in their entirety, and asked that the Commission not include any confidential business or national security information in its reports. Consequently, the reports that the Commission sends to the USTR will not contain any such information. Any confidential business information received by the Commission in this investigation and used in preparing its reports will not be published in a manner that would reveal the operations of the firm supplying the information.

By order of the Commission.
Issued: July 12, 2007.
Marilyn R. Abbott,
Secretary to the Commission.

[FR Doc. E7-13828 Filed 7-17-07; 8:45 am]

BILLING CODE 7020-02-P